DEPARTMENT OF JUSTICE

Antitrust Division

Notice Pursuant to the National Cooperative Research and Production Act of 1993—Optical Internetworking Forum

Notice is hereby given that, on July 23, 2003, pursuant to section 6(a) of the National Cooperative Research and Production Act of 1993, 15 U.S.C. 4301 et seq. (“the Act”), Optical Internetworking Forum has filed written notifications simultaneously with the Attorney General and the Federal Trade Commission disclosing changes in its membership status. The notifications were filed for the purpose of extending the Act's provisions limiting the recovery of antitrust plaintiffs to actual damages under specified circumstances. Specifically, Movaz Networks, McLean, VA; and FCI, Etters, PA have been added as parties to this venture.

Also, Accelight Networks, Bridgeville, PA: ADC Communications, Charlotte, NC; Altamar Networks, Mountain View, CA; Alvesta Corporation, Sunnyvale, CA; Ample Communications, Fremont, CA; Axonlink, Petah Tikva, ISRAEL; Bandwidth9, Fremont, CA; Blue Sky Research, Milpitas, CA; Calix Networks, Petaluma, CA; Celion Networks, Tinton Falls, NJ; Centellax, Santa Rosa, CA; Centerpoint Broadband Technologies, San Jose, CA; Centre Tecnologic de Telecommunicacions de Catalunya, Barcelona, SPAIN; Ceybe, Kanata, Ontario, CANADA; Chiaro Networks, Richardson, TX; Cognigine, Fremont, CA; Coherent Telecom, San Jose, CA; Coriolis Networks, Boxboro, MA; E2O Communications, Rockland, DE; Equant Telecommunications, Sophia Antipolis, FRANCE; Extreme Networks, Santa Clara, CA; Fujikura, Santa Clara, CA; Future Soft Communications, San Jose, CA; JCP Photonics, Sunnyvale, CA; Kirana Networks, Red Bank, NJ; LuxN, Sunnyvale, CA; Nayna Networks, Milpitas, CA; Optillion, Stockholm, SWEDEN; Paxonet, Fremont, CA; Peta Switch Solutions, Santa Clara, CA; Pine Photonics, Fremont, CA; RF Micro Devices, Billerica, MA; RHK, North Attleborough, MA; Santel Networks, Newark, CA; Southampton Photonics, Southampton, UNITED KINGDOM; Stratos Lightwave, Mountain View, CA; Sumitomo Electric, Durham, NC; Taconic, Petersburgh, NY; Transpera Networks, San Jose, CA; Vativ, San Diego, CA; Velocium, El Segundo, CA; Wavium AB, Stockholm, SWEDEN; West Bay Semiconductor, Vancouver, British Columbia, CANADA; and Xindium, Champaign, IL have been dropped as parties to this venture.

No other changes have been made in either the membership or planned activity of the group research project. Membership in this group research project remains open, and Optical Internetworking Forum intends to file additional written notification disclosing all changes in membership.

On October 5, 1998, Optical Internetworking Forum filed its original notification pursuant to section 6(a) of the Act. The Department of Justice published a notice in the Federal Register pursuant to section 6(b) of the Act on January 29, 1999 (64 FR 4709).

The last notification was filed with the Department on July 22, 2002. A notice was published in the Federal Register pursuant to section 6(b) of the Act on December 5, 2002 (67 FR 72429).

Dorothy B. Fountain,
Deputy Director of Operations, Antitrust Division.

[FR Doc. 03-22081 Filed 8-28-03; 8:45 am]

BILLING CODE 4410-11-M